DEPARTMENT OF COMMERCE

National Oceanic and Atmospheric Administration

50 CFR Part 622

[Docket Nos. 090206140-91081-03 and 120405260-4258-02; RTID 0648-XE422]

Revised Reporting Requirements Due to Catastrophic Conditions for Federal Seafood Dealers, Individual Fishing Quota Dealers, and Charter Vessels and Headboats in Portions of Florida

AGENCY: National Marine Fisheries Service (NMFS), National Oceanic and Atmospheric Administration (NOAA), Commerce.

ACTION: Temporary rule; determination of catastrophic conditions.

SUMMARY: In accordance with the regulations implementing the individual fishing quota (IFQ) and Federal dealer reporting specific to the commercial reef fish fishery in the Gulf of Mexico (Gulf) and the coastal migratory pelagic (CMP) fisheries in the Gulf, the Regional Administrator (RA), Southeast Region, NMFS has determined that the catastrophic conditions caused by Hurricane Helene in the Gulf for certain Florida counties still exist. This temporary rule authorizes in the described affected area any dealer who does not have access to electronic reporting to delay reporting of dealer reports (trip tickets), any Southeast Region Headboat Survey (SRHS) program participant to delay reporting electronic logbooks, and authorizes IFQ dealers within the affected area to use paper-based forms, if necessary, for basic required administrative functions, e.g., landing transactions. This temporary rule is intended to facilitate continuation of IFQ and dealer reporting operations during the period of catastrophic conditions.

DATES: The RA is authorizing Federal dealers, for-hire electronic reporting program participants, and IFQ dealers in the affected area to use revised reporting methods from November 2, 2024, through December 1, 2024.

FOR FURTHER INFORMATION CONTACT: IFQ Customer Service, Britni Lavine, telephone: 866-425-7627, email: nmfs.ser.catchshare@noaa.gov. Federal dealer reporting, Fisheries Monitoring Branch, telephone: 305-361-4581. NMFS Southeast For-Hire Integrated Electronic Reporting Program: 1-833-707-1632.

SUPPLEMENTARY INFORMATION: The reef fish fishery of the Gulf is managed under the Fishery Management Plan (FMP) for Reef Fish Resources of the Gulf of Mexico (Reef Fish FMP), prepared by the Gulf of Mexico Fishery Management Council (Gulf Council). The CMP fishery is managed under the FMP for CMP Resources in the Gulf of Mexico and Atlantic Region (CMP FMP), prepared by the Gulf Council and South Atlantic Fishery Management Council. Both FMPs are implemented through regulations at 50 CFR part 622 under the authority of the Magnuson Stevens Fishery Conservation and Management Act (Magnuson Stevens Act).

The Generic Dealer Amendment established Federal dealer reporting requirements for federally permitted dealers in the Gulf and South Atlantic (79 FR 19490, April 9, 2014). The Headboat Reporting Framework Action established the SRHS electronic reporting program (79 FR 6097, February 3, 2014). Amendment 26 to the Reef Fish FMP established an IFQ program for the commercial red snapper component of the Gulf reef fish fishery (71 FR 67447, November 22, 2006). Amendment 29 to the Reef Fish FMP established an IFQ program for the commercial grouper and tilefish components of the Gulf reef fish fishery (74 FR 44732, August 31, 2009). Regulations implementing these dealer reporting requirements, SRHS reporting requirements, and IFQ programs require that Federal dealers, SHRS participants, and IFQ participants have access to a computer and the internet. However, these regulations also specify that during catastrophic conditions, as determined by the RA, the RA may waive or modify the reporting time requirements for Federal dealers and SRHS participants, and authorize both Federal dealers and IFQ participants to use paper-based forms to complete administrative functions for the duration of the catastrophic conditions. The RA must determine that catastrophic conditions exist, specify the duration of the catastrophic conditions, and specify which participants or geographic areas are deemed affected.

Hurricane Helene made landfall in the U.S. in Taylor County, Florida, in the Gulf as a Category 4 hurricane on September 26, 2024. Strong winds and flooding from this hurricane impacted communities along coastal Florida in the Gulf. This resulted in power outages and damage to homes, businesses, and infrastructure. The RA previously authorized Federal dealers and Federal for-hire operators in several counties in Florida and Georgia to delay reporting of trip tickets and for-hire logbooks to NMFS, and IFQ participants in this affected area to use paper-based forms, from October 2, 2024, through November 1, 2024 (89 FR 81031, October 7, 2024). The RA has determined that catastrophic conditions continue to exist in the Gulf for the Florida counties of Taylor, Dixie, and Levy and is authorizing Federal dealers and SRHS program participants to delay electronic reporting to NMFS and IFQ participants in these counties to use paper-based forms through December 1, 2024. NMFS will provide additional notification to affected dealers, SHRS participants, and IFQ participants via NOAA Weather Radio, Fishery Bulletins, and other appropriate means. NMFS will continue to monitor and re-evaluate the areas and duration of the catastrophic conditions, as necessary.

Dealers may delay electronic reporting of trip tickets to NMFS during catastrophic conditions. Dealers are to report all landings to NMFS as soon as possible. Assistance for Federal dealers in the affected area is available from the NMFS Fisheries Monitoring Branch at 1-305-361-4581. SRHS program participants may delay electronic reporting of logbooks to NMFS during catastrophic conditions. SRHS participants are to report all logbooks to NMFS as soon as possible. NMFS previously provided Federal dealers and IFQ participants with the necessary paper forms and instructions for submission in the event of catastrophic conditions. Paper forms are also available from the RA upon request. The electronic systems for submitting information to NMFS will continue to be available to all dealers, and dealers in the affected area are encouraged to continue using these systems, if accessible.

The administrative program functions available to IFQ participants in the area affected by catastrophic conditions will be limited under the paper-based system. There will be no mechanism for transfers of IFQ shares or allocation under the paper-based system in effect during catastrophic conditions. Assistance in complying with the requirements of the paper-based system will be available via the NMFS Catch Share Support line, 1-866-425-7627 Monday through Friday, between 8 a.m. and 4:30 p.m., Eastern Time.

Classification

NMFS issues this action pursuant to section 305(d) of the Magnuson-Stevens Act. This action is consistent with the regulations in 50 CFR 622.5(c)(1)(iii), 622.21(a)(3)(iii), 622.22(a)(3)(iii), 622.26(b)(3) (2020), and 622.374(b)(3) (2020), which were issued pursuant to section 304(b) of the Magnuson-Stevens Act, and is exempt from review under Executive Order 12866.

Pursuant to 5 U.S.C. 553(b)(B), there is good cause to waive prior notice and an opportunity for public comment on this action, as notice and comment are unnecessary and contrary to the public interest. Such procedures are unnecessary because the final rules implementing the Gulf SRHS and Federal dealer reporting requirements and the Gulf IFQ programs, have already been subject to notice and public comment. These rules authorize the RA to determine when catastrophic conditions exist, and which participants or geographic areas are deemed affected by catastrophic conditions. The final rules also authorize the RA to provide timely notice to affected participants via publication of notification in the Federal Register, NOAA Weather Radio, Fishery Bulletins, and other appropriate means. All that remains is to notify the public that catastrophic conditions exist, that Federal dealers and IFQ participants may use paper forms, and that Federal dealers and SRHS participants may submit delayed reports. Such procedures are also contrary to the public interest because of the need to immediately implement this action because affected dealers continue to receive these species in the affected area and fishermen continue to operate, and both need a means of completing their landing transactions and logbook reports. With the power outages and damages to infrastructure that have occurred in the affected area due to Hurricane Helene, numerous businesses are unable to complete landings transactions, fishing reports, and dealer reports electronically. In order to continue with their businesses, IFQ participants need to be aware they can report using the paper forms, and Federal dealers and SRHS participants need to be aware that they can delay reporting.

For the aforementioned reasons, there is good cause to waive the 30-day delay in the effectiveness of this action under 5 U.S.C. 553(d)(3).

Authority: 16 U.S.C. 1801 et seq.

Dated: October 25, 2024.
Karen H. Abrams,
Acting Director, Office of Sustainable Fisheries, National Marine Fisheries Service.

[FR Doc. 2024-25200 Filed 10-25-24; 4:15 pm]

BILLING CODE 3510-22-P